DEPARTMENT OF DEFENSE

Office of the Secretary

Proposed Collection; Comment Request

AGENCY: Office of the Assistant Secretary of Defense for Health Affairs, DoD.

ACTION: Notice.

In compliance with Section 3506(c)(2)(A) of the Paperwork Reduction Act of 1995, the Office of the Assistant Secretary of Defense for Health Affairs announces the proposed reinstatement of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by February 9, 2004.

ADDRESSES: Written comments and recommendations on the proposed information collection should be sent to the Special Contractor Operations Office (SCOO) of the TRICARE Management Activity, 16401 East CentreTech Parkway, Aurora, CO 80011-9043, ATTN: Major Shannon Lynch.

FOR FURTHER INFORMATION CONTACT: To request more information on this proposed information collection or to obtain a copy of the proposal and associated collection instruments, please write to the above address, or call SCOO Dental Contracts at 303-676-3496.

Title; Associated Form; and OMB Number: TRICARE Retiree Dental Program (TRDP) Enrollment Application; OMB Number 0720-0015.

Needs and Uses: The information collection requirement is necessary to provide the TRDP contractor with the information required to enroll eligible beneficiaries in the TRDP.

Affected Public: (DoD personnel and their families who are eligible for the TRDP).

Annual Burden Hours: 0.15: NOTE this form is completed on initial application only.

Number of Respondents: 50,000/year.

Responses per Respondent: 1.

Average Burden per Response: 9 minutes.

Frequency: Once on initial application for enrollment.

SUPPLEMENTARY INFORMATION:

Summary of Information Collection

Respondents are those believing they are eligible for the TRICARE Retiree Dental program and who wish to join the TRDP. Eligibles include:

• Members of the Uniformed Services entitled to retired pay, including those aged 65 and over, and their eligible family members

• Members of the Retired Reserve/Retired Guard entitled to retired pay, but is under age 60, and their family members

• All eligible surviving spouses or eligible children

• A spouse and/or eligible child(ren) of certain non-enrolled members

• Medal of Honor Recipients and their eligible family members

The form is the mechanism utilized by the TRDP contractor (Delta Dental) to enroll eligible DoD personnel in the TRDP. Without the form, the contractor is unable to process enrollment applications and enroll eligible beneficiaries.

Dated: December 1, 2003.
Patricia L. Toppings,
Alternate OSD Federal Register, Liaison Officer, Department of Defense.

[FR Doc. 03-30548 Filed 12-9-03; 8:45 am]

BILLING CODE 5001-06-M